Title 3—

The President

Executive Order 14078 of July 19, 2022

Bolstering Efforts To Bring Hostages and Wrongfully Detained United States Nationals Home

By the authority vested in me as President by the Constitution and the laws of the United States of America, including the Robert Levinson Hostage Recovery and Hostage-taking Accountability Act (22 U.S.C. 1741 et seq.) (Levinson Act), the International Emergency Economic Powers Act (50 U.S.C. 1701 et seq.) (IEEPA), the National Emergencies Act (50 U.S.C. 1601 et seq.) (NEA), section 212(f) of the Immigration and Nationality Act of 1952 (8 U.S.C. 1182(f)), and section 301 of title 3, United States Code,

I, JOSEPH R. BIDEN JR., President of the United States of America, find that hostage-taking and the wrongful detention of United States nationals are heinous acts that undermine the rule of law. Terrorist organizations, criminal groups, and other malicious actors who take hostages for financial, political, or other gain—as well as foreign states that engage in the practice of wrongful detention, including for political leverage or to seek concessions from the United States—threaten the integrity of the international political system and the safety of United States nationals and other persons abroad. I therefore determine that hostage-taking and the wrongful detention of United States nationals abroad constitute an unusual and extraordinary threat to the national security, foreign policy, and economy of the United States. I hereby declare a national emergency to deal with this threat.

The United States Government must redouble its efforts at home and with partners abroad to deter these practices and to secure the release of those held as hostages or wrongfully detained. Processes established under Executive Order 13698 of June 24, 2015 (Hostage Recovery Activities) and Presidential Policy Directive 30 of June 24, 2015 (U.S. Nationals Taken Hostage Abroad and Personnel Recovery Efforts) (PPD-30) have facilitated close interagency coordination on efforts to secure the safe release of United States nationals taken hostage abroad, including engagement with the families of hostages and support of diplomatic engagement with partners abroad. This order reinforces the roles, responsibilities, and commitments contained in those directives and seeks to ensure that—as with hostage recovery activities—interagency coordination, family engagement, and diplomatic tools are enshrined in United States Government efforts to secure the safe release and return of United States nationals wrongfully detained by foreign state actors. This order also reinforces tools to deter and to impose tangible consequences on those responsible for, or complicit in, hostage-taking or the wrongful detention of a United States national abroad.

Accordingly, I hereby order:

Section 1. Executive Order 13698 and PPD-30 shall continue to apply to United States hostage recovery activities. Nothing in this order shall alter the responsibilities of the Hostage Recovery Fusion Cell (HRFC), the Hostage Response Group (HRG), or the Special Presidential Envoy for Hostage Affairs (SPEHA), established by Executive Order 13698, with respect to hostage recovery activities under Executive Order 13698 or PPD-30. Nor shall this order alter the scope of PPD-30, which applies to both suspected and confirmed hostage-takings in which a United States national is abducted or held outside of the United States, as well as to other hostage-takings occurring abroad in which the United States has a national interest, but does not apply if a foreign government confirms that it has detained a United States national.

Sec. 2. (a) The HRG shall, in coordination with the National Security Council's regional directorates as appropriate, convene on a regular basis and as needed at the request of the National Security Council to work to secure the safe release of United States nationals held hostage or wrongfully detained abroad.

(b) The HRG, in support of the Deputies Committee of the National Security Council and consistent with the process outlined in National Security Memorandum 2 of February 4, 2021 (Renewing the National Security Council System), or any successor memorandum, shall:

(i) identify and recommend options and strategies to the President through the Assistant to the President for National Security Affairs to secure the recovery of hostages or the return of wrongfully detained United States nationals;

(ii) coordinate the development and implementation of policies, strategies, and procedures for the recovery of hostages or the return of wrongfully detained United States nationals;

(iii) coordinate and deconflict policy guidance, strategies, and activities that potentially affect the recovery or welfare of United States nationals held hostage or the return or welfare of United States nationals wrongfully detained abroad, including reviewing proposed recovery or return options;

(iv) receive regular updates from the HRFC, the Office of the SPEHA, and other executive departments and agencies (agencies), as the HRG deems appropriate, on the status of United States nationals being held hostage or wrongfully detained abroad and measures being taken to effect safe releases;

(v) receive regular updates from the Department of State on all new wrongful detention determinations; and

(vi) where higher-level guidance is required, make recommendations to the Deputies Committee of the National Security Council.

Sec. 3. (a) The SPEHA shall report to the Secretary of State on a regular basis and as needed to advance efforts to secure the safe release of United States nationals wrongfully detained abroad.

(b) The SPEHA shall, as appropriate and consistent with applicable law:

(i) coordinate diplomatic engagements and strategy regarding hostage and wrongful detention cases, in coordination with the HRFC and relevant agencies, as appropriate and consistent with policy guidance communicated through the HRG;

(ii) share information, including information acquired during consular interactions and engagements, regarding wrongful detention cases with relevant agencies to facilitate close interagency coordination;

(iii) draw on the experience and expertise of the HRFC to support efforts to return wrongfully detained United States nationals, including by providing support and assistance to the families of those wrongfully detained;

(iv) develop and regularly update, in coordination with relevant agencies, strategies for wrongful detention cases for review by the HRG;

(v) ensure, in coordination with the Office of the Director of National Intelligence, that relevant agencies have access to necessary information, including intelligence information, on wrongful detention cases to inform strategies and options; and

(vi) share, in coordination with the Office of the Director of National Intelligence, relevant information, including intelligence information, on developments in wrongful detention cases with the families of wrongfully detained United States nationals, in a timely manner, as appropriate and consistent with the protection of sources and methods.

(c) To ensure that the United States Government provides a coordinated, effective, and supportive response to wrongful detentions, the Secretary of State shall identify adequate resources to enable the SPEHA to:

(i) ensure that all interactions by executive branch officials with the family of a wrongfully detained United States national occur in a coordinated fashion and that the family receives consistent and accurate information from the United States Government, as appropriate and consistent with applicable law;

(ii) provide support and assistance to wrongfully detained United States nationals and their families throughout their detention, including through coordination with the HRFC, as appropriate and consistent with applicable law; and

(iii) provide support and assistance to United States nationals upon their return to the United States from wrongful detention, including through coordination with the HRFC and the Department of Health and Human Services, as appropriate and consistent with applicable law.

Sec. 4. The SPEHA, in coordination with the HRG, the HRFC, and relevant agencies, as appropriate, shall identify and recommend options and strategies to the President through the Assistant to the President for National Security Affairs to reduce the likelihood of United States nationals being held hostage or wrongfully detained abroad. The options shall seek to counter and deter hostage-takings and wrongful detentions by terrorist organizations, foreign governments, and other actors by imposing costs on those who participate in, support, or facilitate such conduct. The strategies shall seek to deter any effort to engage in hostage-taking or the wrongful detention of United States nationals abroad through cooperation with like-minded foreign governments and organizations.

Sec. 5. The Secretary of State shall publicly or privately designate or identify officials of foreign governments who are involved, directly or indirectly, in wrongful detentions, as appropriate and consistent with applicable law, including section 7031(c) of the Department of State, Foreign Operations, and Related Programs Appropriations Act, 2022 (Division K of Public Law 117-103).

Sec. 6. (a) All property and interests in property of the following persons that are in the United States, that hereafter come within the United States, or that are or hereafter come within the possession or control of any United States person, are blocked and may not be transferred, paid, exported, withdrawn, or otherwise dealt in:

(i) any foreign person determined by the Secretary of State, in consultation with the Secretary of the Treasury and the Attorney General:

(A) to be responsible for or complicit in, to have directly or indirectly engaged in, or to be responsible for ordering, controlling, or otherwise directing, the hostage-taking of a United States national or the wrongful detention of a United States national abroad;

(B) to have attempted to engage in any activity described in subsection (a)(i)(A) of this section; or

(C) to be or have been a leader or official of an entity that has engaged in, or whose members have engaged in, any of the activities described in subsections (a)(i)(A) or (a)(i)(B) of this section relating to the leader's or official's tenure;

(ii) any foreign person determined by the Secretary of the Treasury, in consultation with the Secretary of State and the Attorney General:

(A) to have materially assisted, sponsored, or provided financial, material, or technological support for, or goods or services to or in support of:

(1) any activity described in subsection (a)(i)(A) of this section; or

(2) any person whose property and interests in property are blocked pursuant to this order;

(B) to be owned, controlled, or directed by, or to have acted or purported to act for or on behalf of, directly or indirectly, any person whose property and interests in property are blocked pursuant to this order; or

(C) to have attempted to engage in any activity described in subsection (a)(ii)(A) of this section.

(b) The prohibitions in subsection (a) of this section apply except to the extent provided by statutes, or in regulations, orders, directives, or licenses that may be issued pursuant to this order, and notwithstanding any contract entered into or any license or permit granted prior to the date of this order.

Sec. 7. (a) The unrestricted immigrant and nonimmigrant entry into the United States of noncitizens determined to meet one or more of the criteria set forth in section 6(a) of this order would be detrimental to the interests of the United States, and the entry of such persons into the United States, as immigrants or nonimmigrants, is hereby suspended, except when the Secretary of State or the Secretary of Homeland Security, as appropriate, determines that the person's entry would not be contrary to the interests of the United States, including when the Secretary of State or the Secretary of Homeland Security, as appropriate, so determines, based on a recommendation of the Attorney General, that the person's entry would further important United States law enforcement objectives.

(b) The Secretary of State shall implement this authority as it applies to visas pursuant to such procedures as the Secretary of State, in consultation with the Secretary of Homeland Security, may establish.

(c) The Secretary of Homeland Security shall implement this order as it applies to the entry of noncitizens pursuant to such procedures as the Secretary of Homeland Security, in consultation with the Secretary of State, may establish.

(d) Such persons shall be treated by this section in the same manner as persons covered by section 1 of Proclamation 8693 of July 24, 2011 (Suspension of Entry of Aliens Subject to United Nations Security Council Travel Bans and International Emergency Economic Powers Act Sanctions).

Sec. 8. I hereby determine that the making of donations of the types of articles specified in section 203(b)(2) of IEEPA (50 U.S.C. 1702(b)(2)) by, to, or for the benefit of any person whose property and interests in property are blocked pursuant to this order would seriously impair my ability to deal with the national emergency declared in this order, and I hereby prohibit such donations as provided by section 6 of this order.

Sec. 9. (a) Any transaction that evades or avoids, has the purpose of evading or avoiding, causes a violation of, or attempts to violate any of the prohibitions set forth in this order is prohibited.

(b) Any conspiracy formed to violate any of the prohibitions set forth in this order is prohibited.

Sec. 10. For those persons whose property and interests in property are blocked pursuant to this order who might have a constitutional presence in the United States, I find that because of the ability to transfer funds or other assets instantaneously, prior notice to such persons of measures to be taken pursuant to this order would render those measures ineffectual. I therefore determine that for these measures to be effective in addressing the national emergency declared in this order, there need be no prior notice of a listing or determination made pursuant to section 6 of this order.

Sec. 11. The Secretary of the Treasury, in consultation with the Secretary of State, is authorized to take such actions, including the promulgation of rules and regulations, and to employ all powers granted to the President by IEEPA as may be necessary to carry out the purposes of this order. The Secretary of the Treasury may, consistent with applicable law, redelegate any of these functions within the Department of the Treasury. All agencies of the United States Government shall take all appropriate measures within their authority to carry out the provisions of this order.

Sec. 12. Nothing in this order shall prohibit transactions for the conduct of the official business of the United States Government by employees, grantees, or contractors thereof.

Sec. 13. The Secretary of the Treasury, in consultation with the Secretary of State, is hereby authorized to submit recurring and final reports to the Congress on the national emergency declared in this order, consistent with section 401(c) of the NEA (50 U.S.C. 1642(c)) and section 204(c) of IEEPA (50 U.S.C. 1703(c)).

Sec. 14. For purposes of this order:

(a) the term “entity” means a partnership, association, trust, joint venture, corporation, group, subgroup, or other organization;

(b) the term “foreign person” means any citizen or national of a foreign state (including any such individual who is also a citizen or national of the United States, provided such individual does not reside in the United States) or any entity not organized solely under the laws of the United States or existing solely in the United States;

(c) the term “hostage-taking” has the same meaning as provided in PPD-30, which is the unlawful abduction or holding of a person or persons against their will in order to compel a third person or governmental organization to do or to abstain from doing any act as a condition for the release of the person detained;

(d) the term “noncitizen” means any person who is not a citizen or noncitizen national of the United States;

(e) the term “person” means an individual or entity;

(f) the term “United States national” means:

(i) a “national of the United States” as defined in 8 U.S.C. 1101(a)(22) or 8 U.S.C. 1408; or

(ii) a lawful permanent resident with significant ties to the United States;

(g) the term “United States person” means any United States citizen, lawful permanent resident, entity organized under the laws of the United States or any jurisdiction within the United States (including foreign branches), or any person in the United States; and

(h) the term “wrongful detention” means a detention that the Secretary of State has determined to be wrongful consistent with section 302(a) of the Levinson Act.

Sec. 15. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

July 19, 2022.

[FR Doc. 2022-15743

Filed 7-20-22; 8:45 am]

Billing code 3395-F2-P